DEPARTMENT OF COMMERCE

Census Bureau

Proposed Information Collection; Comment Request; National Immunization Survey Evaluation Study

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before December 8, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Andrea L. Piani, Census Bureau, Room HQ-6H035, Washington, DC 20233-8400, (301) 763-5379.

SUPPLEMENTARY INFORMATION

I. Abstract

At the behest of the Centers for Disease Control and Prevention (CDC), U.S. Department of Health and Human Services, the Census Bureau plans to conduct an evaluation study of the National Immunization Survey (NIS). The purpose of this study is to explore how collaborating with the Census Bureau and using the American Community Survey (ACS) as the sampling frame for selecting eligible households could result in improvements to the current NIS. Use of the ACS as a sampling frame, which includes non-landline households and identifies households with age-eligible children, could overcome the current NIS non-coverage issue and substantially reduce data collection costs.

The NIS is a continuing, nationwide random-digit-dialing (RDD) telephone survey of families with children ages 19 to 35 months, or teens ages 13-17 years followed by a mailed survey to children's immunization providers. Since the survey's inception to the present, private contractors have conducted the NIS for the CDC. National, state, and local level estimates of vaccine-specific coverage, including newly licensed vaccines, are produced annually.

The NIS was established to provide an on-going, consistent data set for analyzing vaccination coverage among young children in the United States and disseminating this information to state and local health departments and other interested public health partners. Legal authorization to conduct the survey is granted by Title 13, United States Code, Section 8 and by the Public Health Service Act, Title 42, United States Code, Sections 306 & 2102(a)(7).

In response to one of the goals of the 1993 Childhood Immunization Initiative, to monitor childhood immunization coverage and provide important statistics about childhood vaccinations and related health matters, funding for the NIS was provided and data collection began in April 1994. Furthermore, the scope of the program expanded to include assessing progress towards the national vaccination goals set forth by the Childhood Immunization Initiative of 1996. Currently, the NIS provides vaccination coverage estimates annually for children aged 19-35 months and teens aged 13-17 years, by state and at least six city/county areas. The information collected is used to evaluate state and local immunization programs, to develop health care policies, and to assist in the determination of funding allocations for the Vaccines for Children (VFC) program. Since 1994, the VFC program has helped families of children who may not otherwise have access to vaccines by providing free vaccines to doctors who serve them.

In recent years, the NIS has covered a decreasing portion of the target population, particularly children aged 19-35 months living in households with cell phone, but not landline telephone service. As part of the CDC's continuing effort to evaluate and refine the NIS, this study is intended to explore how partnering with the Census Bureau and sampling from the ACS for households with age-eligible children having landline, cell phone only, and no telephone service could result in improvements to the survey especially in terms of coverage, response, and cost.

II. Method of Collection

Data collection for the NIS Evaluation Study will use a multi-mode approach. First, computer-assisted telephone interviewing (CATI) will be conducted with households with age-eligible children (19-35 months) to collect information on the vaccinations received for each age-eligible child, as well as information on vaccination providers. Second, in-person follow-up interviews with non-responders, including households with no telephone service, will be conducted. Due to constraints in time and resources, the follow-up interviews for the evaluation study will be conducted using paper-and-pencil interviewing methods. If the results from the evaluation study prove beneficial, in-person follow-up interviews for the national survey will be conducted using computer-assisted personal interviewing (CAPI) methods whereby field representatives collect the data from respondents using laptop computers. Third, vaccination providers will be contacted through the use of a paper mail-out/mail-back process. Providers will submit information on vaccinations administered and the dates the vaccinations were administered for each child 19 through 35 months. Only providers of age-eligible children whose parent or guardian participated in the telephone or paper follow-up survey and who gave consent to follow-up with the provider will be contacted. The provider information on the type of vaccine, the number of vaccinations, and the dates of vaccination will be used to estimate vaccination coverage levels; the information obtained from the parent or guardian will be used to evaluate the completeness of the provider-reported information.

III. Data

OMB Control Number: None.

Form Number: None.

Type of Review: Regular submission.

Affected Public: Individuals/households; business or other for-profit organizations (Health Care Providers).

Estimated Number of Respondents: 1,200 children in 1,185 households; 1,510 providers.

Estimated Time Per Response: 28 minutes, 2 seconds (household component); 25 minutes, 2 seconds (provider verification component).

Estimated Total Annual Burden Hours: 564 hours (household component), 634 hours (provider verification component).

Estimated Total Annual Cost: $0.

Respondent's Obligation: Voluntary.

Legal Authority: All information collected about individuals or households is confidential by law Title 13, United States Code, Section 9. Legal authorization to conduct the survey is granted by Title 13, United States Code, Section 8 and by the Public Health Service Act, Title 42, United States Code, Sections 306 & 2102(a)(7).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 1, 2008.
Gwellnar Banks,
Management Analyst, Office of the Chief Information Officer.

[FR Doc. E8-23559 Filed 10-6-08; 8:45 am]

BILLING CODE 3510-07-P